DEPARTMENT OF TRANSPORTATION

Federal Highway Administration

Environmental Impact Statement: Nueces County, TX

AGENCY: Federal Highway Administration (FHWA), DOT.

ACTION: Notice of intent.

SUMMARY: The FHWA is issuing this notice to advise the public that an environmental impact statement (EIS) will be prepared for the proposed U.S. Highway (US) 181 Harbor Bridge replacement highway project in Nueces County, Texas.

FOR FURTHER INFORMATION CONTACT: John R. Mack, P.E. District Engineer, Federal Highway Administration—Texas Division, 300 East 8th Street, Austin, Texas 78701. Telephone: 512-536-5960.

SUPPLEMENTARY INFORMATION: The FHWA, in cooperation with the Texas Department of Transportation (TxDOT), will prepare an environmental impact statement (EIS) for a proposal to replace the existing US 181 Harbor Bridge in Nueces County, Texas. The proposed improvement would involve replacement of the existing Harbor Bridge and approaches where US 181 crosses the Corpus Christi Ship Channel, a roadway distance of approximately 2.25 miles.

The need for the proposed bridge improvements is based on a number of identified deficiencies in the existing structure, including high maintenance costs, safety issues, capacity needs, shipping height restrictions, and connectivity to adjacent areas. The purpose of the improvements is to address these deficiencies while identifying future plans for the US 181 roadway structure and the area it serves.

Alternatives under consideration include (1) taking no action, and (2) replacing the existing US 181 Harbor Bridge and approach roads with a facility built to current highway standards. A Feasibility Study prepared in 2003 evaluated four corridor alternatives along existing and new location right-of-way and a No-Build alternative, resulting in the identification of a recommended study corridor. A reasonable number of alignment alternatives will be identified and evaluated in the EIS, as well as the No-Build Alternative, based on input from federal, state, and local agencies, as well as private organizations and concerned citizens.

Impacts caused by the construction and operation of the proposed improvements would vary according to the alternative alignment utilized. Generally, impacts would include the following: Impacts to residences and businesses, including potential relocation; impacts to parkland; transportation impacts (construction detours, construction traffic, and mobility improvement); air and noise impacts from construction equipment and operation of the roadway; social and economic impacts, including impacts to minority and low-income residents; impacts to historic cultural resources; water quality impacts from construction and roadway runoff; and impacts to waters of the U.S. including wetlands from right-of-way encroachment.

A letter that describes the proposed action and a request for comments will be sent to appropriate federal, state, and local agencies, and to private organizations and citizens who have previously expressed interest in the proposal. TxDOT completed a Feasibility Study for the project in June 2003. In conjunction with the Feasibility Study, TxDOT developed a public involvement plan, sponsored three citizens' advisory committee (CAC) meetings, held two public meetings, and distributed two newsletters. An agency scoping meeting will be held by TxDOT on June 23, 2005 to brief agency representatives on project plans, introduce project team members, obtain comments pertaining to the scope of the EIS, identify important issues, set goals, and respond to questions. A continuing public involvement program will include a project mailing list, project newsletters, a June 23, 2005 public scoping meeting (public notice will be given of the time and place), and numerous informal meetings with interested citizens and stakeholders. In addition, a public hearing will be held after the publication of the Draft EIS. Public notice will be given of the time and place of the hearing. The Draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program)

Issued on: May 10, 2005.
John R. Mack,
District Engineer, Austin, Texas.

[FR Doc. 05-10055 Filed 5-19-05; 8:45 am]

BILLING CODE 4910-22-M